DEPARTMENT OF ENERGY

Federal Energy Regulatory Commission

Combined Notice of Filings #1

Take notice that the Commission received the following electric corporate filings:

Docket Numbers: EC14-118-000.

Applicants: NaturEner Glacier Wind Energy 1, LLC, NaturEner Glacier Wind Energy 2, LLC, NaturEner Rim Rock Wind Energy, LLC, NaturEner Montana Wind Energy, LLC, NaturEner Power Watch, LLC, NaturEner Wind Watch, LLC, Morgan Stanley Renewable Development Fund.

Description: Application for Authorization under Section 203 of the FPA, Request for Expedited Consideration, Confidential Treatment and Waivers of NaturEner Glacier Wind Energy 1, LLC, et. al.

Filed Date: 7/28/14.

Accession Number: 20140728-5173.

Comments Due: 5 p.m. ET 8/18/14.

Take notice that the Commission received the following electric rate filings:

Docket Numbers: ER10-3297-003; ER11-2664-008.

Applicants: Powerex Corp.

Description: Amendment and Supplement to December 31, 2013 Updated Market Power Analysis for the Northwest Region of Powerex Corp.

Filed Date: 7/25/14.

Accession Number: 20140725-5144.

Comments Due: 5 p.m. ET 8/15/14.

Docket Numbers: ER10-3319-015.

Applicants: Astoria Energy II LLC.

Description: Compliance Filing to Electric Tariff to be effective 7/30/2014.

Filed Date: 7/29/14.

Accession Number: 20140729-5075.

Comments Due: 5 p.m. ET 8/19/14.

Docket Numbers: ER11-4333-001.

Applicants: Astoria Energy LLC.

Description: Compliance Filing for Electric Tariff to be effective 7/30/2014.

Filed Date: 7/29/14.

Accession Number: 20140729-5071.

Comments Due: 5 p.m. ET 8/19/14.

Docket Numbers: ER14-1970-002.

Applicants: Midcontinent Independent System Operator, Inc.

Description: 2014-07-29 Compliance re Prohibited Investments to be effective 7/1/2014.

Filed Date: 7/29/14.

Accession Number: 20140729-5028.

Comments Due: 5 p.m. ET 8/19/14.

Docket Numbers: ER14-2223-000.

Applicants: Sabine Cogen, LP.

Description: Amendment to June 19, 2014 Sabine Cogen, LP tariff filing.

Filed Date: 7/28/14.

Accession Number: 20140728-5168.

Comments Due: 5 p.m. ET 8/18/14.

Docket Numbers: ER14-2322-000.

Applicants: Chestnut Flats Lessee, LLC.

Description: Supplement to June 30, 2013 Triennial Market Power Update for the Northeast Region of Chestnut Flats Lessee, LLC.

Filed Date: 7/25/14.

Accession Number: 20140725-5065.

Comments Due: 5 p.m. ET 8/29/14.

Docket Numbers: ER14-2517-000.

Applicants: PacifiCorp.

Description: BPA AC Intertie Agreement 11th Revised to be effective 9/27/2014.

Filed Date: 7/28/14.

Accession Number: 20140728-5151.

Comments Due: 5 p.m. ET 8/18/14.

Docket Numbers: ER14-2518-000.

Applicants: New York Independent System Operator, Inc.

Description: NYISO Tariff Amendments to Define Certain Outage States and Associated Requirement to be effective 11/1/2014.

Filed Date: 7/28/14.

Accession Number: 20140728-5152.

Comments Due: 5 p.m. ET 8/18/14.

Docket Numbers: ER14-2519-000.

Applicants: New England Power Company.

Description: Notice of Cancellation of New England Power Company Service Agreement for Network Integration Transmission Service with The Narragansett Electric Company.

Filed Date: 7/28/14.

Accession Number: 20140728-5169.

Comments Due: 5 p.m. ET 8/18/14.

Docket Numbers: ER14-2520-000.

Applicants: NorthWestern Corporation.

Description: Revisions to Attachment M (LGIP-LGIA) and Attachment N (SGIA) to Montana OATT to be effective 9/27/2014.

Filed Date: 7/29/14.

Accession Number: 20140729-5029.

Comments Due: 5 p.m. ET 8/19/14.

Docket Numbers: ER14-2521-000.

Applicants: New England Power Company.

Description: Notice of Cancellation of New England Power Company Interconnection Agreement Rate Schedule No. 501 with Dighton Power Associates Limited Partnership.

Filed Date: 7/29/14.

Accession Number: 20140729-5037.

Comments Due: 5 p.m. ET 8/19/14.

Docket Numbers: ER14-2522-000.

Applicants: MATL LLP.

Description: Compliance with Order 792 to be effective 8/1/2014.

Filed Date: 7/29/14.

Accession Number: 20140729-5055.

Comments Due: 5 p.m. ET 8/19/14.

Docket Numbers: ER14-2523-000.

Applicants: PJM Interconnection, L.L.C.

Description: 2nd Quarter 2014 Updates to OA and RAA Membership Lists to be effective 6/30/2014.

Filed Date: 7/29/14.

Accession Number: 20140729-5067.

Comments Due: 5 p.m. ET 8/19/14.

Docket Numbers: ER14-2524-000.

Applicants: California Independent System Operator Corporation.

Description: 2014-07-29_AnaheimMSSA to be effective 9/28/2014.

Filed Date: 7/29/14.

Accession Number: 20140729-5069.

Comments Due: 5 p.m. ET 8/19/14.

Docket Numbers: ER14-2525-000.

Applicants: PacifiCorp.

Description: Termination of Tri-State Amended and Restated Transmission Agreement to be effective 10/1/2014.

Filed Date: 7/29/14.

Accession Number: 20140729-5072.

Comments Due: 5 p.m. ET 8/19/14.

Take notice that the Commission received the following land acquisition reports:

Docket Numbers: LA14-2-000.

Applicants: First Solar, Inc.

Description: Quarterly Land Acquisition Report of First Solar, Inc.

Filed Date: 7/28/14.

Accession Number: 20140728-5165.

Comments Due: 5 p.m. ET 8/18/14.

Take notice that the Commission received the following qualifying facility filings:

Docket Numbers: QF14-682-000.

Applicants: President and Fellows of Harvard College.

Description: Form 556 of President and Fellows of Harvard College.

Filed Date: 7/28/14.

Accession Number: 20140728-5086.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 29, 2014.
Nathaniel J. Davis, Sr.,
Deputy Secretary.

[FR Doc. 2014-18475 Filed 8-4-14; 8:45 am]

BILLING CODE 6717-01-P